OFFICE OF PERSONNEL MANAGEMENT

Excepted Service

AGENCY: Office of Personnel Management (OPM).

ACTION: Notice.

SUMMARY: This gives notice of OPM decisions, granting authority to make appointments under Schedule C in the excepted service as required by 5 CFR 6.1 and 213.103.

FOR FURTHER INFORMATION CONTACT: Pam Shivery, Director, Washington Service Center, Employment Service (202) 606-1015.

SUPPLEMENTARY INFORMATION: Appearing in the listing below are the individual authorities established under Schedule C between between September 1, 2002 and September 30, 2002. Future notices will be published on the fourth Tuesday of each month, or as soon as possible thereafter. A consolidated listing of all authorities as of June 30 is published each year.

Schedule C

Commission on Civil Rights

Special Assistant to a Commissioner. Effective September 17, 2002.

Commodity Futures Trading Commission

Special Assistant to a Commissioner. Effective September 25, 2002.

Department of Agriculture

Special Assistant to the Administrator, Farm Service Agency. Effective September 6, 2002.

Confidential Assistant to the Administrator, Rural Housing Service. Effective September 12, 2002.

Confidential Assistant to the Assistant Secretary for Congressional Relations. Effective September 18, 2002.

Staff Assistant to the Administrator, Risk Management Agency. Effective September 25, 2002.

Director of External Affairs to the Administrator, Risk Management Agency. Effective September 25, 2002.

Staff Assistant to the Administrator, Farm Service Agency. Effective September 30, 2002.

Department of Commerce

Confidential Assistant to the Assistant Secretary for Technology. Effective September 4, 2002.

Department of Defense

Defense Fellow to the Special Assistant to the Secretary of Defense for White House Liaison. Effective September 4, 2002.

Special Advisor to the Under Secretary of Defense (Policy). Effective September 20, 2002.

Department of Education

Confidential Assistant to the Director, Office of Public Affairs. Effective September 4, 2002.

Special Assistant to the Assistant Secretary for Postsecondary Education. Effective September 12, 2002.

Special Assistant to the Chief of Staff to the Deputy Secretary. Effective September 12, 2002.

Special Assistant to the Assistant Secretary for Postsecondary Education. Effective September 12, 2002.

Special Assistant to the Director, Office of Public Affairs. Effective September 17, 2002.

Department of Energy

Senior Policy Advisor to the Director of Science. Effective September 16, 2002.

Department of Health and Human Services

Special Assistant to the Chief of Staff. Effective September 11, 2002.

Speechwriter to the Deputy Assistant Secretary for Public Affairs. Effective September 25, 2002.

Confidential Assistant to the Deputy Assistant Secretary for Public Affairs (Policy and Strategy). Effective September 26, 2002.

Department of Housing and Urban Development

Special Assistant to the Assistant Secretary for Public Affairs. Effective September 4, 2002.

Media Coordinator to the Assistant Secretary for Public Affairs. Effective September 12, 2002.

Deputy White House Liaison to the Assistant to the Secretary and White House Liaison. Effective September 17, 2002.

Department of the Interior

Special Assistant to the Deputy Secretary. Effective September 26, 2002.

Department of Justice

Chief, Congressional Affairs to the Administrator, Drug Enforcement Administration. Effective September 5, 2002.

Special Assistant to the Director, Community Relations Service. Effective September 10, 2002.

Department of Labor

Special Assistant to the Chief Financial Officer. Effective September 4, 2002.

Chief of Staff to the Assistant Secretary for Disability Employment Policy. Effective September 11, 2002.

Special Assistant to the Assistant Secretary for Disability Employment Policy. Effective September 11, 2002.

Research Assistant to the Assistant Secretary for Congressional and Intergovernmental Affairs. Effective September 16, 2002.

Senior Intergovernmental Officer to the Assistant Secretary for Congressional and Intergovernmental Affairs. Effective September 18, 2002.

Deputy Director to the Director, Women's Bureau. Effective September 19, 2002.

Special Assistant to the Assistant Secretary for Mine Safety and Health. Effective September 20, 2002.

Special Assistant to the Secretary of Labor. Effective September 26, 2002.

Department of State

Special Assistant to the Senior Coordinator for International Women's Issues. Effective September 5, 2002.

Public Affairs Specialist to the Assistant Secretary for Public Affairs. Effective September 5, 2002.

Special Assistant to the Deputy Assistant Secretary for Academic Exchanges. Effective September 6, 2002.

Senior Advisor to the Assistant Secretary for Educational and Cultural Affairs. Effective September 10, 2002.

Special Assistant to the Director of White House Liaison Staff. Effective September 12, 2002.

Foreign Affairs Officer to the Under Secretary, United States Permanent Representative to the Organization of American States. Effective September 12, 2002.

Foreign Affairs Officer to the Director Policy Planning. Effective September 20, 2002.

Senior Policy Advisor to the Assistant Secretary for Diplomatic Security, Bureau of Diplomatic Security. Effective September 25, 2002.

Department of Transportation

Senior Advisor to the Administrator, Federal Aviation Administrator. Effective September 17, 2002.

Department of the Treasury

Senior Advisor for Latin America and Caribbean Nations to the Assistant Secretary, International Affairs. Effective September 6, 2002.

Special Assistant to the Executive Secretary. Effective September 30, 2002.

Environmental Protection Agency

Program Advisor (Publications) to the Associate Administrator. Effective September 5, 2002.

Senior Advisor to the Chief Financial Officer. Effective September 17, 2002.

Federal Emergency Management Agency

Assistant Division Director to the Director, Congressional and Intergovernmental Affairs Division. Effective September 17, 2002.

General Services Administration

Confidential Assistant to the Chief of Staff. Effective September 5, 2002.

Senior Advisor to the Regional Administrator, Region 4, Atlanta, GA. Effective September 12, 2002.

National Credit Union Administration

Staff Assistant to a Board Member. Effective September 18, 2002.

President's Commission on White House Fellowships

Associate Director to the Executive Director of the President's Commission on White House Fellowships. Effective September 6, 2002.

Securities and Exchange Commission

Confidential Assistant to a Commissioner. Effective September 12, 2002.

Confidential Assistant to a Commissioner. Effective September 24, 2002.

Small Business Administration

Press Secretary to the Associate Administrator for Communications and Public Liaison. Effective September 10, 2002.

Special Assistant to the Administrator for Field Operations Restructuring. Effective September 12, 2002.

Regional Administrator, Region III, Philadelphia, PA to the Administrator, Small Business Administration. Effective September 17, 2002.

Social Security Administration

Special Assistant to the Chief of Staff. Effective September 6, 2002.

Authority: 5 U.S.C. 3301 and 3302; E.O. 10577, 3 CFR 1954-1958 Comp., P.218.

Office of Personnel Management.
Kay Coles James,
Director.

[FR Doc. 02-26799 Filed 10-21-02; 8:45 am]

BILLING CODE 6325-38-P